FEDERAL COMMUNICATIONS COMMISSION

Sunshine Act Meeting; Deletion of Agenda Items From November 13th Open Meeting

November 12, 2003.

The following items have been deleted from the list of Agenda items scheduled for consideration at the November 13, 2003, Open Meeting and previously listed in the Commission's Notice of November 6, 2003.

3 International

Title: Procedures to Govern the Use of Satellite Earth Stations on Board Vessels in the 5925-6425 MHz/3700-4200 MHz Bands and 14.0-14.5 GHz/11.7-12.2 GHz Bands (IB Docket No. 02-10).

Summary: The Commission will consider a Notice of Proposed Rulemaking concerning Earth stations on board vessels that are used to provide broadband telecommunications services on passenger, government, cargo, and recreational vessels.

4 Office of Engineering and Technology

Title: Revision of Parts 2 and 15 of the Commission's Rules to Permit Unlicensed National Information Infrastructure (UNII) devices in the 5 GHz band (ET Docket No. 03-122; RM-10371).

Summary: The Commission will consider a Report and Order to provide an additional 255 MHz of spectrum for unlicensed wireless devices operating in the 5 GHz region of the spectrum.

Federal Communications Commission.
Marlene H. Dortch,
Secretary.

[FR Doc. 03-28784 Filed 11-13-03; 1:03 pm]

BILLING CODE 6712-01-P